DEPARTMENT OF AGRICULTURE

Forest Service

Notice of Resource Advisory Committee Meeting

AGENCY: Southwest Idaho Resource Advisory Committee, Boise, ID, USDA, Forest Service.

ACTION: Notice of meeting.

SUMMARY: Pursuant to the authorities in the Federal Advisory Committee Act (Pub. L. 92-463) and under the Secure Rural Schools and Community Self-Determination Act of 2000 (Pub. L. 106-393) the Boise and Payette National Forest's Southwest Idaho Resource Advisory Committee will meet Wednesday March 20, 2002 in Boise, Idaho for a business meeting. The Meeting is open to the public.

SUPPLEMENTARY INFORMATION: The business meeting on March 20 begins at 10:30 AM, at the Idaho Counties Risk Management Program Building, 3100 South Vista Avenue, Boise, Idaho. Agenda items will include (1) development of criteria for evaluating project proposals, (2) initial review of project proposals and (3) an open public forum.

FOR FURTHER INFORMATION CONTACT: Randy Swick, McCall Ranger District Ranger and Designated Federal Officer, at (208) 634-0400.

David F. Alexander,
Forest Supervisor.

[FR Doc. 02-5254 Filed 3-5-02; 8:45 am]

BILLING CODE 3410-BH-M